NATIONAL TRANSPORTATION SAFETY BOARD

Sunshine Act Meeting

TIME AND DATE: 9:00 a.m. ET, Tuesday, January 27, 2026.

PLACE: NTSB Conference Center, 429 L'Enfant Plaza SW, Washington, DC 20594.

STATUS: The one item is open to the public.

MATTER TO BE CONSIDERED:

75405 Aviation Investigation Report—Midair Collision Over the Potomac River, PSA Airlines Flight 5342, Mitsubishi Heavy Industries (MHI), RJ Aviation CL-600-2C10 (CRJ700), and US Army Priority Air Transport Flight 25, Sikorsky UH-60L, Washington, District of Columbia, January 29, 2025.

CONTACT PERSON FOR MORE INFORMATION: Candi Bing at (202) 590-8384 or by email at bingc@ntsb.gov.

Media Information Contact: Peter Knudson by email at peter.knudson@ntsb.gov or at (202) 314-6100.

The public may view it through a live or archived webcast by accessing a link under “Upcoming Events” on the NTSB home page at www.ntsb.gov.

Schedule updates, including weather-related cancellations, are also available at www.ntsb.gov.

The National Transportation Safety Board is holding this meeting under the Government in the Sunshine Act, 5 U.S.C. 552(b).

Dated: Friday, January 9, 2026.
Candi R. Bing,
Federal Register Liaison Officer.

[FR Doc. 2026-00605 Filed 1-12-26; 4:15 pm]

BILLING CODE 7533-01-P